DEPARTMENT OF JUSTICE

Drug Enforcement Administration

Manufacturer of Controlled Substances; Notice of Withdrawal of Application

By notice dated December 24, 2003, and published in the Federal Register on January 27, 2004 (68 FR 39437), Novartis Pharmaceuticals Corporation, Attn: Security Department, Building 103, Room 335, 59 Route 10, East Hanover, New Jersey 07936, made application by renewal to the Drug Enforcement Administration to be registered as a bulk manufacturer of Methylphenidate (1724), a basic class of controlled substance in Schedule II.

The firm planned to produce bulk product and finished dosage units for distribution to its customers.

By letter dated March 11, 2004, the firm stated that it is no longer engaged in the bulk manufacture of this controlled substance. The renewal application for Novartis Pharmaceuticals Corporation is hereby withdrawn.

Dated: April 1, 2004.
William J. Walker,
Deputy Assistant Administrator, Office of Diversion Control, Drug Enforcement Administration.

[FR Doc. 04-9328 Filed 4-23-04; 8:45 am]

BILLING CODE 4410-09-M